DEPARTMENT OF LABOR

Office of the Secretary

Agency Information Collection Activities; Submission for OMB Review; Comment Request; National Evaluation of the Performance Partnership Pilots for Disconnected Youth (P3) Program

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

Currently, the Department of Labor is soliciting comments concerning the collection of data about the National Evaluation of the Performance Partnership Pilots for Disconnected Youth (P3) [ED-GRANTS-112414-001]. A copy of the proposed Information Collection Request (ICR) can be obtained by contacting the office listed below in the addressee section of this notice.

DATES: Written comments must be submitted to the office listed in the addressee section below on or before July 18, 2016.

ADDRESSES: You may submit comments by either one of the following methods: Email: ChiefEvaluationOffice@dol.gov; Mail or Courier: Christina Yancey, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Christina Yancey by email at ChiefEvaluationOffice@dol.gov.

SUPPLEMENTARY INFORMATION:

I. Background

The information collection activities described in this notice will provide data for a systems analysis, as well as implementation and outcome evaluation of the Performance Partnership Pilots for Disconnected Youth (P3) Program. Through the first cohort of P3 grantees, five partnering Federal agencies—the Departments of Education (DOE), Labor (DOL), and Health and Human Services (HHS), along with the Corporation for National and Community Service (CNS) and the Institute of Museum and Library Services (IMLS)—are testing innovative, cost-effective, and outcome-focused strategies for improving results for disconnected youth. Disconnected youth are defined as low-income youth between the ages of 14 and 24 and are either homeless, in foster care, involved in the juvenile justice system, unemployed, or not enrolled in or at risk of dropping out of school. The Federal partners hope to learn more about whether allowing states, localities, and Indian tribes greater flexibility to pool funds and waive programmatic requirements will help them overcome significant hurdles they face in providing effective services to and improving outcomes for disconnected youth. In October 2015, nine competitively-awarded grantees were announced as the first cohort of P3. They received up to $700,000 in start-up funds and the flexibility to blend or braid existing discretionary funds from across programs to improve the outcomes of disconnected youth.

This information collection covers the systems analysis, as well as implementation and outcomes study which will address four main research questions: (1) How do the pilots use the flexibility offered by P3 to implement P3 models and interventions to improve the outcomes of disconnected youth? (2) How has each pilot structured its P3 system and work across partners to provide effective services to disconnected youth? (3) What system change resulted from P3? and (4) Who are the youth who participate in P3, what services do they receive, and what are their outcomes? This Federal Register Notice provides the opportunity to comment on three proposed data collection instruments that will be used in the P3 implementation evaluation:

• Site visit protocols. The two site visits, anticipated to occur in 2017 and 2018, will include semi-structured interviews with grantee and partners administrators and staff and observations of program activities. Field researchers will use a modular interview guide, organized by major topics that can be adapted based on the respondent's knowledge base, to prompt discussions on topics of interest to the study.

• Focus group protocols. During each implementation study visit, the evaluation team will conduct three focus groups per site. Each round of site visits will also include focus groups with youth participants. The protocol will be used to learn about P3 participants, including their initial interest and enrollment in P3, their experiences in the program, and their expectations for the future.

• Partner Survey. The survey will be administered during the two site visits to those partners working with the grantees. To better understand relationships of the partner entities within the pilot, the survey, a brief targeted tool, will explore the strength of relationships between the key entities (partners) involved in the P3 pilot. The short survey will systematically collect information on select elements of partner interactions (frequency of communication, level of collaboration, and service referrals).

II. Desired Focus of Comments

Currently, the Department of Labor is soliciting comments concerning the above data collection for the P3 program. DOL is particularly interested in comments that do the following:

• Evaluate whether the proposed collection of information is necessary for the proper performance functions of the agency, including whether the information will have practical utility;

• evaluate the accuracy of the agency's burden estimate of the proposed information collection, including the validity of the methodology and assumptions;

• enhance the quality, utility, and clarity of the information to be collected; and

• minimize the burden of the collection of information on those who are to respond, including through the use of appropriate automated, electronic, mechanical, or other technological collection techniques or other forms of information technology—for example, permitting electronic submissions of responses.

III. Current Actions

At this time, the Department of Labor is requesting clearance for the implementation site visit protocols, the focus group protocols, and a survey.

Type of Review: New information collection request.

OMB Control Number: 1205-0NEW.

Affected Public: Staff of state and local government agencies, for-profit institutions, and not-for-profit institutions; and youth participants. Respondent groups identified include (1) administrators and staff of grantees and partners organizations and (2) youth participants.

Estimated Total Burden Hours
Respondents | Estimated total respondents | Number of responses per respondent | Average burden time per response (hours) | Estimated total burden (hours)
Semi-structured Interviews
Round 1 |  |  |  |
P3 Administrators/Staff | 135 | 1 | 1.25 | 168.75
Round 2 |  |  |  |
P3 Administrators/Staff | 135 | 1 | 1.25 | 168.75
Site Visit
Round 1 |  |  |  |
P3 Youth | 72 | 1 | 1 | 72
Round 2 |  |  |  |
P3 Youth | 72 | 1 | 1 | 72
Partner Survey
Round 1 |  |  |  |
P3 Administrators/Staff | 90 | 1 | .25 | 22.5
Round 2 |  |  |  |
P3 Administrators/Staff | 90 | 1 | .25 | 22.5
Total | 594 |  |  | 526.5

Comments submitted in response to this request will be summarized and/or included in the request for Office of Management and Budget approval of the information collection request; they will also become a matter of public record.

Dated: May 11, 2016.
Sharon Block,
Principal Deputy Assistant Secretary for Policy, U.S. Department of Labor.

[FR Doc. 2016-11847 Filed 5-18-16; 8:45 am]

BILLING CODE 4510-HX-P